DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of March 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-56,605; Pennsylvania Veneer Corp., Clearfield, PA

TA-W-56,560; Interstate Tool and Die Co., Madison Heights, MI

TA-W-56,639; Prism Technology and Assemblies, LLC, a div. of Mariah Industries and Carlisle Engineered Products, Meadville, PA

TA-W-56,567; Kellwood Comp any, Kellwood Midwest Regional Operations, Product Development Div., Rutherford, TN

TA-W-56,570; Penn Mould Industries, Inc., Washington, PA

TA-W-56,601; Fort Howard Steel, Green Bay, WI

TA-W-56,369; Tower Automotive Milwaukee, LLC, Milwaukee Business Unit, a div. of Tower Automotive, Inc., Milwaukee, WI

TA-W-56,398; Libbey Glass, Inc., Walnut, CA

TA-W-56,401; Neat Feet Hosiery, Inc., Stoneville, NC

TA-W-56,464; IMERYS, Dry Branch Operation, Dry Branch, GA

TA-W-56,437; ASSEM-Tech, Inc., Including leased workers of Employment Solutions, Grand Haven, MI

TA-W-56,592; North East Graphics, Waymart, PA

TA-W-56,539 & A; SCA Tissue North America LLC, Menasha, WI and Neenah, WI

TA-W-56,551; National Oilwell, LLP, Hydralift Amclyde, Inc., St. Paul, MN

TA-W-56,552; Arctic Glacier, Inc., formerly Northern Pure Ice Company, Grayling, MI

TA-W-56,442; Laurent Leather, Inc., Newton, NC

TA-W-56,688; Lands' End, subsidiary of Sears Roebuck and Company, Business Outfitters CAD Operations, Dodgeville, WI

TA-W-56,739; Flexaust Appliance, Inc., El Paso, TX

TA-W-56,610; Silgan Containers Manufacturing Corp., MCF-451 Div., Oconomowoc, WI

TA-W-56,516; Weil-McLain, subsidiary of SPX Corp., Michigan City, IN

TA-W-56,479; Hoffmaster, subsidiary of Solo Cup Co., Green Bay, WI

TA-W-56,743; Randstad North America, Gardena, CA

TA-W-56,599; Dorby Frocks, Ltd/Kellwood, New York, NY

The investigation revealed that criterion (a)(2)(A)(I.A) and (a)(2)(B)(II.A) (no employment decline) has not been met.

TA-W-56,823; The Computer Co-Op, Inc., South Williamsport, PA

TA-W-56,670; Carolina Mills, Inc., Sales Department, Maiden, NC

TA-W-56,537; Polarfab, Bloomington, MN

TA-W-56,590; Maple Mountain Associates, Milford, NH

TA-W-56,550; Cyprus Semiconductor, Inc., including leased workers of Onpoint Staffing, Bloomington, MN

TA-W-56,701; Twigs & Ivy Boutique, Potosi, MO

TA-W-56,593; Geneva Manufacturing Corporation, Geneva, IN

TA-W-56,420 & A; Tyco Electronics, Communications, Computers and Consumer Electronics Div., East Berlin, PA and Carlisle, PA

The workers firm does not produce an article as required for certification under Section 222 of the Trade Act of 1974.

TA-W-56,682; Global travel Financial Operations, a div. of American Express Co., Phoenix, AZ

TA-W-56,508; Cannon County Knitting Mills, Smithville, TN

TA-W-56,744; ACS Commercial Solutions, Inc., a div. of Affiliated Computer Services, Inc., Florence, SC

TA-W-56.563; Brocade Communications Systems, Inc., San Jose, CA

TA-W-56,618; Staubli Corp., Textile Div., Duncan, SC

TA-W-56,689; Jones Apparel Group, North Carolina Distribution Div., Rural Hall, NC

TA-W-56,544; Rockford Health Physicians, Central Business Office, including on-site leased workers of Furst Staffing, Rockford, IL

TA-W-56,561; Citicorp Credit Services, Inc., (USA), Middleburg Heights, OH

TA-W-56,591; Sun Microsystems, Inc., Restoration Services, Burlington, MA

The investigation revealed that criterion (a)(2)(A)(I.B) (Sales or production, or both, did not decline) and (a)(2)(B)(II.B) (has shifted production to a county not under the free trade agreement with U.S.) have not been met.

TA-W-56,490; Equilon Enterprises LLC, d/b/a Shell Oil Products US, Bakersfield Refinery, Bakersfield, CA

TA-W-56,496; KBA North America, In., Web Press Div., including leased workers of Frank Electric Corp., York, PA

Affirmative Determinations for Worker Adjustment Assistance

The following certifications have been issued; the date following the company name and location of each determination references the impact date for all workers of such determination.

The following certifications have been issued. The requirements of (a)(2)(A) (increased imports) of Section 222 have been met.

TA-W-56,596; Duro Textiles LLC, Duro Finishing, Print, and Duro II, a subsidiary of Patriarch Partners, Falls River, MA: January 24, 2005

TA-W-54,656; ICS Cutting Tools, Inc., Roc Edge Div., Casco, WI: February 14, 2004

TA-W-56,568; Cleyn & Tinker International, Inc., Malone, NY: February 7, 2004

TA-W-56,657; Vernay Laboratories, Inc., Yellow Springs, OH: March 11, 2005

TA-W-56,662; Olsonite Corp., Newnan, GA: February 17, 2004

TA-W-56,512; Pride Manufacturing Co LLC, Tampa, FL: January 19, 2004

TA-W-56,470; Unique Garment Manufacturing, Inc., Daly City, 2004

TA-W-56,619 & A,B,C; Springs Industries, Griffin Plant 5, including on-site leased workers from Defender Services, Inc., Griffin, GA, Griffin Plant 1, including on-site leased workers from Defender Services, Inc., Griffin, GA, Griffin Finishing, including on-site leased from Defender Services, Inc., Griffin, GA and Griffin Administrative Center, Griffin, GA: February 18, 2004

TA-W-56,642; Turtle Fur Company, Morrisville, VT: February 16, 2004

TA-W-56,676; Regent Manufacturing Co., San Francisco, CA: March 1, 2004

TA-W-56,647; Stillwater Forest Products, Kalispell, MT: February 23, 2004

TA-W-56,687; KL-Arrow, Inc., Asheboro, NC: March 2, 2004

TA-W-56,597; Fairey Finishing Plant, Inc., Durham, NC: February 7, 2004

TA-W-56,546; Westpoint Stevens, Scotland Plant, Wagram, NC: February 9, 2004

TA-W-56,650; Barnes Supply Co., Inc., T/A Barnes & Company, including leased workers at Ameristaff, Collinsville, VA: February 24, 2004

TA-W-56,646; Wheatland Tube Company, Warren Plant, Warren, OH: February 4, 2004

TA-W-56,691; Worldtex, Inc., Hickory, NC: March 7, 2004

TA-W-56,750; Finishing Touch Hosiery, Fyffe, AL: March 8, 2004

TA-W-56,672 & A; Golden Northwest Aluminum, Goldendale, WA and The Dalles, OR: March 1, 2004

TA-W-56,491; Newcor, Inc., Bay City Division, Bay City, MI: January 28, 2004

TA-W-56,654; ECC Corporation, Jefferson, MA: February 17, 2004

TA-W-56,778; Eagle Picher Automotive, Hillsdale Div., including on-site leased workers of Hamilton-Ryker, and Staffing Solutions, Manchester, TN: March 16, 2004

TA-W-56,410; The Amalgamated Sugar Co., LLC, Nyssa, OR: January 25, 2004

TA-W-56,758; Weyerhaeuser, Foster Plywood, Sweet Home, OR: March 11, 2004

TA-W-56,542; A.D. Harrington Company, d/b/a Temple Industries, Hot Springs, AR: January 28, 2004

TA-W-56,514; Ikka Technology, Inc., including leased workers at Randstandt Work Solutions and Willstaff Worldwide, Villa Rica, GA: January 25, 2004

TA-W-56,538; Prudential Overall Supply, Garment Manufacturing Plant, Cerritos, CA: January 28, 2004

TA-W-56,555; American Flange & Manufacturing Co., Inc., a Division of Greif, Inc., Carol Stream, IL: January 28, 2004

TA-W-56,471; Noffsinger Manufacturing Co., Inc., Hermiston-West Division, Hermiston, OR: February 1, 2004

TA-W-56,472; Armstrong Wood Products, Inc., Hartco Flooring Company, Parquet Department, Oneida, TN: February 1, 2004

TA-W-56,510; Shafer Electronics, Shafer, MN: February 3, 2004

TA-W-56,644; Truth Hardware, W. Hazleton, PA: March 12, 2005

TA-W-56,627; Codet Newport Corporation, Colebrook, NH: February 18, 2004

TA-W-56,227; Kraft Foods Global, Inc., Buena Park Manufacturing, Buena Park, CA: December 18, 2003

TA-W-56,436; Bauhaus U.S.A., Inc., Belmont Div., Belmont, MS: January 11, 2004

TA-W-56,710; Baltimore Laidlaw LLC, Baltimore, MD: December 3, 2003

TA-W-56,602; Jetter Knitting, Inc., Fort Payne, AL: February 16, 2004

TA-W-56,460; Ameriwood Industries, Wright City, MO: January 28, 2004

TA-W-56,438; Hi-Tech Engineering, d/b/a High-Tech Comact, a subsidiary of Comact, Inc., including leased workers of Staffmark, Hot Springs, AR: January 27, 2004

TA-W-56,685; Global Textile Robotics, LLC, Greenville, SC: March 1, 2004

TA-W-56,604; Toshiba America Consumer Products, LLC, a subsidiary of Toshiba, Inc., including on-site leased workers from Holland Employment, Lebanon, TN: February 17, 2004

TA-W-56,621; Triumph Engineered Solutions, Inc., a subsidiary of Triumph Group, Inc., Brookfield, WI: February 18, 2004

The following certifications have been issued. The requirements of (a)(2)(B) (shift in production) of Section 222 have been met.

TA-W-56,608; Eaton Corp., Specialty Controls Div., including leased workers of Adecco, Perry Personnel, Wise Personnel, Manpower, Aerotek, and Welsh and Associates, Three Rivers, MI: February 18, 2004

TA-W-56,579; Bulk Lift International, Inc., Carpentersville, IL: February 1, 2004

TA-W-56,562; Plasticsource, Inc., El Paso, TX: January 28, 2004

TA-W-56,614; White Knight Engineered Products, Inc., Childersburg, AL: February 7, 2004

TA-W-56,693; United Plywood Industries, including on-site leased workers from Ablest Staffing, Mocksville, NC: February 25, 2004

TA-W-56,711; Jacobs Chuck Manufacturing Co., including leased workers of Etcon Staffing Services, Clemson, SC: February 24, 2004

TA-W-56,583; Agilent Technologies, Manufacturing Test Business Unit, including leased workers at Benchmark Electronics, Inc., Loveland, CO: February 14, 2004

TA-W-56,584; Valeo Electrical Systems, Inc., Valeo Wipers

N.A. Division, Rochester, NY: January 23, 2005

TA-W-56,595; Gardall Safe Corp., Syracuse, NY: February 7, 2004

TA-W-56,703; Top Flight, Inc., Chattanooga, TN: March 4, 2004

TA-W-56,633; Syracuse China, Syracuse, NY: February 8, 2004

TA-W-56,566 & A; Porter Cable/Delta, subsidiary of Black and Decker, Refurbishment Center, including leased workers of Ranstad, Jackson, TN and Industrial Products (Power Tools) Division, including leased workers of Ranstad, Manpower and Personnel Placement, Jackson, TN: February 11, 2004

TA-W-56,620; Springs Industries, Hartwell Finishing, including on-site leased workers from Defender Services, Hartwell, GA: February 18, 2004

TA-W-56,752; Team Manufacturing, Inc., Rancho Dominguez, CA: March 9, 2004

TA-W-56,543; Evans Rule Company, Inc., a Div. of L.S. Starrett Co., Inc., including on-site temporary workers from Hammes Staffing Services and Extra Help Personnel Services, Charleston, SC: December 10, 2004

TA-W-56,717; Victor Insulators, Inc., Victor, NY: February 23, 2004

TA-W-56,709 & A & B; American Identity including on-site leased workers of Adecco, Marcus, IA, Hawarden, IA and Orange City, IA: April 9, 2005

TA-W-56,645; Zodiac American Pools, Inc., including leased workers of Manpower, Inc., Midway, GA: February 2, 2004

TA-W-56,684; Roaring & Cumberland Manufacturing, Inc., including on-site leased workers from Staffing Solutions, Sparta, TN: March 1, 2004

TA-W-56,521; Lear Corporation, Seating Systems Division, Grand Rapids, MI: February 7, 2004

TA-W-56,612; A.O. Smith Company, Inc., Electrical Products Co., McMinnville, TN: February 12, 2005

TA-W-56,652; Vishay Sprague Sanford, Inc., including leased workers of Manpower Sanford and Manpower Technical, Sanford, ME: March 26, 2005

TA-W-56,611; Global Accessories, Inc., Phoenix, AZ: February 17, 2004

TA-W-56,632; Celestica, Americas EMS Mt. Pleasant Div., including on-site leased workers of Adecco, Mt. Pleasant, IA: February 22, 2004

TA-W-56,594; DuPont Photomasks, Inc., Kokomo Site, Kokomo, IN: February 16, 2004

TA-W-56,626; Tee Jays Manufacturing Co., Inc., Plants #3, 6, 10 and 15, Florence, AL: February 21, 2004

TA-W-56,545; Chase Staffing Services and Availstaff Staffing Services, Inc., workers at Hibino Corporation, Gainesville, GA: February 5, 2004

TA-W-56,576; Danaher Tool Group, Springfield, MA: February 14, 2004

TA-W-56,664; Osram Sylvania, Precision Materials and Components, including on-site leased workers of Superior Technical Resources and Kelly Services, Bangor, ME: April 3, 2005

TA-W-56,636; M.J. Soffe Company, a Division of Delta Apparel, Bladenboro, NC: February 9, 2004

TA-W-56,771; Kern Manufacturing, a subsidiary of Leading Lady, Flora, IL: March 14, 2004

TA-W-56,578; GE Security, including on-site leased workers of Express, Total One, and Pioneer, Arden Hills, MN: February 14, 2004

TA-W-56,708; AVX Corporation, subsidiary of Kyocera Corp., Raleigh, NC: March 8, 2004

TA-W-56,694; Colortronic North America, Inc., Runnemede, NJ: March 4, 2004

The following certifications have been issued. The requirement of upstream supplier to a trade certified primary firm has been met.

TA-W-56,028; Munters Corporation, including leased workers of Remedy Intelligent Staffing, Phoenix, AZ: November 12, 2003

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W-54,313; Pinnacle Frames and Accents, Inc., Wood Div., Formerly Known As Tandycrafts, Inc., Piggott, AR

TA-W-53,944; Universal Lighting Technologies, Formerly Magnetek, Including Leased Workers of Ranstad, Madison, AL

TA-W-56,595; Gardall Safe Corp., Syracuse, NY

TA-W-56,604; Toshiba America Consumer Products, LLC, a subsidiary of Toshiba America, Inc., including on-site leased workers from Holland Employment, Lebanon, TN

TA-W-56,621; Triumph Engineered Solutions, Inc., a subsidiary of Triumph Group, Inc., Brookfield, WI

TA-W-56,460; Ameriwood Industries, Wright City, MO

TA-W-56,703; Top Flight, Inc., Chattanooga, TN

TA-W-56,578; GE Security, including on-site leased workers of Express, Total One, and Pioneer, Arden Hills, MN

TA-W-56,438; Hi-Tech Engineering, d/b/a High-Tech Comact, a subsidiary of Comact, Inc., including leased workers of Staffmark, Hot Springs, AR

TA-W-56,633; Syracuse China, Syracuse, NY

TA-W-56,685; Global Textile Robotics, LLC, Greenville, SC

TA-W-56,710; Baltimore Laidlaw LLC, Baltimore, MD

TA-W-56,708; AVX Corp., subsidiary of Kyocera Corp., Raleigh, NC

The Department as determined that criterion (1) of Section 246 has not been met. Workers at the firm are 50 years of age or older.

TA-W-56,694; Colortronic North America, Inc., Runnemede, NJ

TA-W-56,602; Jetter Knitting, Inc., Fort Payne, AL

Since the workers are denied eligibility to apply for TAA, the workers cannot be certified eligible for ATAA.

TA-W-56,591; Sun Microsystems, Inc., Restoration Services, Burlington, MA

TA-W-56,561; Citicorp Credit Services, Inc. (USA), Middleburg Heights, OH

TA-W-56,544; Rockford Health Physicians, Central Business Office, including on-site leased workers of Furst Staffing, Rockford, IL

TA-W-56,689; Jones Apparel Group, North Carolina Distribution Div., Rural Hall, NC

TA-W-56,618; Staubli Corp., Textile Div., Duncan, SC

TA-W-56,563; Brocade Communications Systems, Inc., San Jose, CA

TA-W-56,508; Cannon Country Knitting Mills, Smithville, TN

TA-W-56,496; KBA North America, Inc., Web Press Div., Including Leased Workers of Frank Electric Corp., York, PA

TA-W-56,593; Geneva Manufacturing Corp., Geneva, IN

TA-W-56,701; Twigs & Ivy Boutique, Potosi, MO

TA-W-56,550; Cyprus Semiconductor, Inc., Including Leased Workers of Onpoint Staffing, Bloomington, MN

TA-W-56,590; Maple Mountain Associates, Milford, NH

TA-W-56,537; Polarfab, Bloomington, MN., Plano, TX

TA-W-56,670; Carolina Mills, Inc., Sales Department, Maiden, NC

TA-W-56,599; Dorby Frocks, Ltd/Kellwood, New York, NY

TA-W-56,743; Randstad North Carolina, Gardena, CA

TA-W-56,479; Hoffmaster, subsidiary of Solo Cup Company, Green Bay, WI

TA-W-56,516; Weil-McLain, subsidiary of SPX Corp., Michigan City, IN

TA-W-56,739; Flexaust Appliance, Inc., El Paso, TX

TA-W-56,610; Silgan Containers Manufacturing Corp., MCF-451 Div., Oconomowoc, WI

TA-W-56,688; Lands' End, subsidiary of Sears Roebuck and Company, Business Outfitters CAD Operations, Dodgeville, WI

TA-W-56,441; Laurent Leather, Inc., Newton, NC

TA-W-56,552; Arctic Glacier, Inc., formerly Northern Pure Ice Co., Grayling, MI

TA-W-56,570; Penn Mould Industries, Inc., Washington, PA

TA-W-56,601; Fort Howard Steel, Green Bay, WI

TA-W-56,369; Tower Automotive Milwaukee, LLC, Milwaukee Business Unit, a div. of Tower Automotive, Inc., Milwaukee, WI

TA-W-56,369; Tower Automotive Milwaukee, LLC, Milwaukee Business Unit, a div. of Tower Automotive, Inc., Milwaukee, WI

TA-W-56,398; Libbey Glass, Inc., Walnut, CA

TA-W-56,401; Neat Feet Hosiery, Inc., Stoneville, NC

TA-W-56,464; IMERYS, Dry Branch Operation, Dry Branch, GA

TA-W-56,437; ASSEM-Tech, Inc., Including Leased Workers of Employment Solutions, Grand Haven, MI

TA-W-56,592; North East Graphics, Waymart, PA

TA-W-56,539 & A; SCA Tissue North America LLC, Menasha, WI and Neenah, WI

TA-W-56,551; National Oilwell, LLP, Hydralift Amclyde, Inc., St. Paul, MN

TA-W-56,420 & A; Tyco Electronics, Communications, Computers and Consumer Electronics Div., East Berlin, PA and Carlisle, PA

Affirmative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-56,566 & A; Porter Cable/Delta, subsidiary of Black and Decker, Refurbishment Center, including leased workers of Ranstad, Jackson, TN and Industrial Products (Power Tools) Div., including leased workers of Ranstad, Manpower and Personnel Placement, Jackson, TN: February 11, 2004

TA-W-56,620; Springs Industries, Hartwell Finishing, including on-site leased workers from Defender Services, Hartwell, GA: February 18, 2004

TA-W-56,543; Evans Rule Company, Inc., a Div. of L.S. Starrett Co., Inc., including on-site temporary workers from Hammes Staffing Services and Extra Help Personnel Services, Charleston, SC: December 10, 2004

TA-W-56,771; Kern Manufacturing, a subsidiary of Leading Lady, Flora, IL: March 14, 2004

TA-W-56,752; Team Manufacturing, Inc., Rancho Dominguez, CA: March 9, 2004

TA-W-56,717; Victor Insulators, Inc., Victor, NY: February 23, 2004

TA-W-56,709 & A,B; American Identity, including on-site leased workers of Adecco, Marcus, IA, Hawarden, IA and Orange City, IA: April 9, 2005

TA-W-56,645; Zodiac American Pools, Inc., including leased workers of Manpower, Inc., Midway, GA: February 2, 2004

TA-W-56,684; Roaring & Cumberland Manufacturing, Inc., including on-site leased workers from Staffing Solutions, Sparta, TN: March 1, 2004

TA-W-56,521; Lear Corp., Seating Systems Division, Grand Rapids, MI: February 7, 2004

TA-W-56,612; A.O. Smith Company, Inc., Electrical Products Co., McMinnville, TN: February 12, 2005

TA-W-56,652; Vishay Sprague Sanford, Inc., including leased workers of Manpower Sanford and Manpower Technical, Sanford, ME: March 26, 2005

TA-W-56,611; Global Accessories, Inc., Phoenix, AZ: February 17, 2004

TA-W-56,632; Celestica, Americas EMS Mt. Pleasant Div., including on-site leased workers of Adecco, Mt. Pleasant, IA: February 22, 2004

TA-W-56,594; DuPont Photomasks, Inc., Kokomo Site, Kokomo, IN: February 16, 2004

TA-W-56,626; Tee Jays Manufacturing Co., Inc., Plants #3, 6, 10 and 15, Florence, AL: February 21, 2044

TA-W-56,545; Chase Staffing Services and Availstaff Staffing Services, Inc., working at Hibino Corporation, Gainesville, GA: February 5, 2004

TA-W-56,576; Danaher Tool Group, Springfield, MA: February 14, 2004

TA-W-56,664; Osram Sylvania, Precision Materials and Components, including on-site leased workers of Superior Technical Resources and Kelly Services, Bangor, ME: April 3, 2005

TA-W-56,636; M.J. Soffe Co., a Div. of Delta Apparel, Bladenboro, NC: February 9, 2004

TA-W-56,619 &A,B,C; Springs Industries, Griffin Plant 5, including leased workers from Defender Services, Inc., Griffin, GA, Griffin Plant 1, including on-site leased workers from Defender Services, Inc., Griffin, GA, Griffin Finishing, including on-site leased workers from Defender Services, Inc., Griffin, GA, and Griffin Administrative Center, Griffin, GA: February 18, 2004

TA-W-56,642; Turtle Fur Company, Morrisville, VT: February 16, 2004

TA-W-56,676; Regent Manufacturing Co., San Francisco, CA: March 1, 2004

TA-W-56,647; Stillwater Forest Products, Kalispell, MT: February 23, 2004

TA-W-56,687; KL-Arrow, Inc., Asheboro, NC: March 2, 2004

TA-W-56,597; Fairey Finishing Plant, Inc., Durham, NC: February 7, 2004

TA-W-56,546; Westpoint Stevens, Scotland Plant, Wagram, NC: February 9, 2004

TA-W-56,650; Barnes Supply Co., Inc., T/A Barnes & Company, including leased workers at Ameristaff, Collinsville, VA: February 24, 2004

TA-W-56,646; Wheatland Tube Company, Warren Plant, Warren, OH: February 4, 2004

TA-W-56,691; Worldtex, Inc., Hickory, NC: March 7, 2004

TA-W-56,750; Finishing Touch Hosiery, Fyffe, AL: March 8, 2004

TA-W-56,672 & A; Golden Northwest Aluminum, Goldendale, WA and The Dalles, OR: March 1, 2004

TA-W-56,491; Newcor, Inc., Bay City Division, Bay City, MI: January 28, 2004

TA-W-56,654; ECC Corp., Jefferson, MA: February 17, 2004

TA-W-56,778; Eagle Picher Automotive, Hillsdale Div., including on-site leased workers of Hamilton-Ryker and Staffing Solutions, Manchester, TN: March 16, 2004

TA-W-56,410; The Amalgamated Sugar Co., LLC, Nyssa, OR: January 25, 2004

TA-W-56,758; Weyerhaeuser, Forster Plywood, Sweet Home, OR: March 11, 2004

TA-W-56,542; A.D. Harrington Company, d/b/a Temple Industries, Hot Springs, AR: January 28, 2004

TA-W-56,514; Ikka Technology, Inc., including leased workers at Randstadt Work Solutions and Willstaff Worldwide, Villa Rica, GA: January 25, 2004

TA-W-56,538; Prudential Overall Supply, Garment Manufacturing Plant, Cerritos, CA: January 28, 2004

TA-W-56,555; American Flange & Manufacturing Co., Inc., a Div. of Greif, Inc., Carol Stream, IL: January 28, 2004

TA-W-56,471; Noffsinger Manufacturing Co., Inc., Hermiston-West Div., Hermiston, OR: February 1, 2004

TA-W-56,472; Armstrong Wood Products, Inc., Hartco Flooring Co., Parquet Department, Oneida, TN: February 1, 2004

TA-W-56,510; Shafer Electronics, Shafer, MN: February 3, 2004

TA-W-56,644; Truth Hardware, W. Hazleton, PA: March 12, 2005

TA-W-56,627; Codet Newport Corp., Colebrook, NH: February 18, 2004

TA-W-56,227; Kraft Foods Global, Inc., Buena Park Manufacturing, Buena Park, CA: December 18, 2003

TA-W-56,436; Bauhaus U.S.A., Inc., Belmont Div., Belmont, MS: January 11, 2004

TA-W-53,526; Royal Home Fashions, Inc., Mebane Div., Mebane, NC: October 31, 2002

TA-W-54,575; Timken U.S. Corporation, Industrial Div., Formerly Known as Torrington/Ingersoll Rand, Rutherfordton, NC: April 22, 2006

TA-W-53,573; Textron Fastening Systems, Samuelson Road Operations Div., a subsidiary of Textron, Inc., Rockford, IL: November 5, 2002

I hereby certify that the aforementioned determinations were issued during the month of March 2005. Copies of these determinations are available for inspection in Room C-5311, U.S. Department of Labor, 200 Constitution Avenue, NW., Washington, DC 20210 during normal business hours or will be mailed to persons who write to the above address.

Dated: April 21, 2005.
Timothy Sullivan,
Director, Division of Trade Adjustment Assistance.

[FR Doc. E5-2091 Filed 4-29-05; 8:45 am]

BILLING CODE 4510-30-P